FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201288-003.

Agreement Name: Digital Container Shipping Association Agreement.

Parties: CMA CGM S.A.; Evergreen Marine Corporation; Hapag-Lloyd AG; Hyundai Merchant Marine Co., Ltd.; Maersk A/S; Mediterranean Shipping Company S.A.; Ocean Network Express Pte. Ltd.; Yang Ming Marine Transport Corporation; and Zim Integrated Shipping Services Ltd.

Filing Party: Wayne Rohde; Cozen O'Connor.

Synopsis: The amendment revises Article 6.2 and Appendices B, C, E and F to revise the procedure for electing the Chair and Vice Chair of the Supervisory Board, the composition of the Supervisory Board, and how certain financial obligations will be handled in the event of the resignation or voluntary suspension of a member. It also changes the name of the Maersk entity that is party to the Agreement.

Proposed Effective Date: 5/9/2020.

Location: https://www2.fmc.gov/FMC.Agreements.Web/Public/AgreementHistory/21328.

Dated: March 27, 2020.
Rachel E. Dickon,
Secretary.

[FR Doc. 2020-06806 Filed 3-31-20; 8:45 am]

BILLING CODE 6730-02-P